DEPARTMENT OF COMMERCE

International Trade Administration

Amended Dates for the Trade Mission to Central America in Conjunction With The Trade Americas and the US-UK Financial Innovation Partnership Trade Mission

AGENCY: Department of Commerce.

ACTION: Notice.

SUMMARY: The United States Department of Commerce, International Trade Administration, is announcing amended dates and deadlines for submitting applications for two upcoming trade missions that were previously announced and published in the Federal Register:

• Trade Mission to Central America in Conjunction with The Trade Americas—Business Opportunities in Central America Conference scheduled for March 27-April 1, 2022, postponed to August 21-26, 2022.

• US-UK Financial Innovation Partnership Trade Mission to the United Kingdom scheduled for June 20-23, 2022, postponed to June 27-29, 2022.

SUPPLEMENTARY INFORMATION: Amendments to Revise Trade Mission Dates, and Deadline for Submitting Applications.

Background

Trade Mission to Central America in Conjunction With The Trade Americas—Business Opportunities in Central America Conference

Due to the recent Omicron variant wave in the region, the International Trade Administration has determined that to allow for optimal execution of recruitment and event scheduling for the mission, the dates of the mission are modified from March 27-April 1, 2022 to August 21-26, 2022. As a result of the shift of the event dates the date of the application deadline is also revised from January 28, 2022 to May 27, 2022 (and after that date if space remains and scheduling constraints permit). Interested U.S. companies and trade associations/organizations that have not already applied are encouraged to do so. The U.S. Department of Commerce will review applications and make selection decisions on a rolling basis in accordance with the original Notice published at 87 FR 2130 (January 13, 2022). The applicants selected will be notified as soon as possible. The proposed schedule is updated as follows: *

* Note: The final schedule of meetings, events, and site visits will depend on the availability of host government and business officials, specific goals of mission participants, flight availability and ground transportation options.

Proposed Timetable

August 20, 2022 | Travel Day/Arrival in Guatemala City. Optional Local Tour.
August 21, 2022 | Guatemala City. Afternoon: Registration, U.S. Embassy Officer Consultations and Market Briefing. Evening: Networking Reception.
August 22, 2022 | Guatemala City. Morning: Registration and Trade Americas—Business Opportunities in Central America Conference. Afternoon: U.S. Embassy Officer Consultations and Workshops. Evening: Networking Reception.

Optional

August 23-26, 2022 | Travel and Business-to-Business Meetings in (choice of up to two markets): Option (A) Costa Rica. Option (B) Guatemala. Option (C) El Salvador. Option (D) Belize Option (E) Honduras. Option (F) Panama.
August 27, 2022 | Travel Day. Return to the U.S.

Contact Information: Delia Valdivia, Senior International Trade Specialist, U.S. Commercial Service—Los Angeles (West), CA, delia.valdivia@trade.gov, Tel: 310-235-7203.

Background

US-UK Financial Innovation Partnership Trade Mission to the United Kingdom

The United States Department of Commerce, International Trade Administration, is amending the Notice published at 86 FR 13526 (March 8, 2021), regarding the dates of ITA's planned US-UK Financial Innovation Partnership Trade Mission to the United Kingdom, which have been modified from June 20-23, 2022, to June 27-29, 2022. The new deadline for applications has been extended to March 25, 2022. Applications may be accepted after that date if space remains and scheduling constraints permit. Interested U.S. companies and trade associations/organizations that have not already submitted an application are encouraged to do so. The schedule is updated as follows:

Proposed Timetable

Monday, June 27, 2022 | • Trade Mission Participants Arrive. • No Host Dinner/Delegation Meet Up/Evening Activity (i.e., London Eye).
Tuesday, June 28, 2022 | Morning: Panel Discussions.
| • Opening Breakfast.
| • Expanding into the UK from UK FinTech Thought Leaders.
| • FCA Sandbox Discussion.
| • Armchair Discussions with UK Banks.
| Afternoon: Site Visit.
| • Level 39 Accelerator or Barclays incubator.
| • Evening Reception.
Wednesday, June 29, 2022 | Morning: London Stock Exchange & HMG Engagement.
| • Opening of London Stock Exchange Networking, Ceremony, and Information on Listing on the Exchange.
| • Bank of England Show Round and Discussion.
| • FIP Roundtable Discussion with HMG, FinTech Alliance, DIT.
| • Group Tour of Parliament.
| Afternoon: Pitchfest and/or Matchmaking Event.
| • Venue TBD.
| • Official Trade Mission Program Concludes.
Thursday, June 30, 2022 | • Optional spinoffs Tentative/TBD (not part of official mission).
* Note: The final schedule and potential site visits will depend on the availability of host government and business officials, specific goals of mission participants, and ground transportation.

The participation fee for the US-UK Financial Innovation Partnership Trade Mission has been updated to $1,500 for small or medium-sized enterprises (SME); and $2,450 or large firms or trade associations. The fee for each additional firm representative (large firm or SME/trade organization) is $750. The U.S. Department of Commerce will review applications and make selection decisions on a rolling basis in accordance with the Notice published at 85 FR 56578 (September 14, 2020). The applicants selected will be notified as soon as possible.

Contacts: Vincent Tran, International Trade Specialist, Office of Finance and Insurance Industries, Washington, DC, (202) 482-2967, Vincent.Tran@trade.gov.

Gemal Brangman.
Director, ITA Events Management Task Force.

[FR Doc. 2022-03526 Filed 2-17-22; 8:45 am]

BILLING CODE 3510-DR-P